ENVIRONMENTAL PROTECTION AGENCY

[EPA-HQ-RCRA-2011-0280, FRL-9461-2]

Agency Information Collection Activities; Submission to OMB for Review and Approval; Comment Request; 2011 Hazardous Waste Report, Notification of Regulated Waste Activity, and Part A Hazardous Waste Permit Application and Modification

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 11, 2011.

ADDRESSES: Submit your comments, referencing Docket ID No. EPA-HQ-RCRA-2011-0280, to (1) EPA, either online using http://www.regulations.gov (our preferred method), or by e-mail to rcra-docket@epa.gov, or by mail to: RCRA Docket (28221T), U.S. Environmental Protection Agency, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Peggy Vyas, Environmental Protection Agency Office of Solid Waste and Emergency Response (Mail Code 5303P), 1200 Pennsylvania Ave., NW., Washington, DC 20460; telephone number: (703) 308-5477; fax number: (703) 308-8433; e-mail address: vyas.peggy@epa.gov.

SUPPLEMENTARY INFORMATION: EPA has submitted the following ICR to OMB for review and approval according to the procedures prescribed in 5 CFR 1320.12. On March 29, 2011 (76 FR 17414), EPA sought comments on this ICR pursuant to 5 CFR 1320.8(d). EPA received four comments during the comment period, which are addressed in the ICR. Any additional comments on this ICR should be submitted to EPA and OMB within 30 days of this notice.

EPA has established a public docket for this ICR under Docket ID No EPA-HQ-RCRA-2011-0280, which is available for online viewing at http://www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: 2011 Hazardous Waste Report, Notification of Regulated Waste Activity, and Part A Hazardous Waste Permit Application and Modification.

ICR numbers: EPA ICR No. 0976.15, OMB Control No. 2050-0024.

ICR Status: This ICR is scheduled to expire on November 30, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR will combine two separate ICRs into one: the “Notification of Regulated Waste Activity and 2011 Hazardous Waste Report” ICR and the “RCRA Hazardous Waste Permit Application and Modification, Part A” ICR (currently EPA ICR number 0262.12, OMB control number 2050-0034).

Both Sections 3002 and 3004 of RCRA require EPA to establish standards for recordkeeping and reporting of hazardous waste generation and management. Section 3002 applies to hazardous waste generators and Section 3004 applies to hazardous waste treatment, storage, and disposal facilities. In addition, Sections 3002 and 3004 require the submission of a report, at least every 2 years, of the quantity and nature of hazardous waste generated and managed during one year. This is mandatory reporting. The information for the required reporting year (every odd year) is collected via a mechanism known as the Hazardous Waste Report (EPA Form 8700-13 A/B). This form is also known as the “Biennial Report” form.

Section 3010 of RCRA requires any person who generates or transports regulated waste or who owns or operates a facility for the treatment, storage, or disposal of regulated waste to notify EPA of their activities, including the location and general description of activities and the regulated wastes handled. The facility is then issued an EPA Identification number. The facilities are required to use the Notification Form (EPA Form 8700-12) to notify EPA of their hazardous waste activities. This form is also known as the “Notification” form.

Section 3005 of RCRA requires treatment, storage, and disposal facilities (TSDFs) to obtain a permit. To obtain the permit, the TSDF must submit an application describing the facility's operation. There are two parts to the RCRA permit application—Part A and Part B. The RCRA Hazardous Waste Part A Permit Application form (EPA Form 8700-23) defines the processes to be used for treatment, storage, and disposal of hazardous wastes; the design capacity of such processes; and the specific hazardous wastes to be handled at the facility. This form is also known as the “Part A” form. [Part B requires detailed site specific information such as geologic, hydrologic, and engineering data. There is no form for Part B, and the burden is covered under a separate ICR.]

The information from all three forms is entered into a national database. EPA uses the information to identify the universe of regulated waste generators, handlers, and managers and their specific regulated waste activities. EPA also uses this information to ensure that regulated waste is managed properly, that statutory provisions are upheld, and that regulations are adhered to by facility owners or operators.

Burden Statement: The annual public reporting burden for the 2011 Hazardous Waste Report is estimated to average 12 hours per respondent, and includes time for reviewing instructions, gathering data, completing and reviewing the forms, and submitting the report. The recordkeeping requirement is estimated to average 5 hours per response and includes the time for filing and storing the 2011 Hazardous Waste Report submission for three years.

The annual public reporting and recordkeeping burden for the Notification of Regulated Waste Activity is estimated to average 1 hour per response for the initial notification, and 1 hour per response for any subsequent notifications.

The annual public reporting and recordkeeping burden for the Part A Permit Application is estimated to average 20 hours per response for an initial application and 10 hours per response for a revised application.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are business or other for-profit as well as State, Local, or Tribal governments.

Estimated Number of Respondents: 56,672.

Frequency of Response: once.

Estimated Total Annual Hour Burden: 440,243.

Estimated Total Annual Cost: $18,267,341, includes $18,022,415 annualized labor costs and $244,926 annualized capital or O&M costs.

Changes in the Estimates: There is an increase of 18,110 hours in the total estimated burden currently identified in the OMB Inventory of Approved ICR Burdens. This increase is due mainly to a projected increase of 179,980 in the number of responses to the 2011 Hazardous Waste Report compared to the 2009 Hazardous Waste Report.

Dated: August 31, 2011.
John Moses,
Director, Collection Strategies Division.

[FR Doc. 2011-22992 Filed 9-7-11; 8:45 am]

BILLING CODE 6560-50-P